DEPARTMENT OF TRANSPORTATION

Federal Transit Administration

Preparation of an Environmental Impact Statement on Transit Improvements Between Ann Arbor and Downtown Detroit, MI

AGENCY: Federal Transit Administration (FTA), DOT.

ACTION: Notice of intent to prepare an Environmental Impact Statement.

SUMMARY: The FTA is issuing this notice to advise agencies and the public that, in accordance with the National Environmental Policy Act (NEPA), an Environmental Impact Statement (EIS) is being prepared for a proposed transit improvement in Southeast Michigan, between Ann Arbor and Detroit. Located in Wayne and Washtenaw Counties, the proposed transit project would extend from west of Ann Arbor to downtown Detroit, by way of the Detroit Metro Airport. The corridor is situated along I-94 and the Norfolk Southern Railroad. The study area boundaries are generally defined as the corridor formed by the City of Chelsea on the west, Detroit Metro Airport on the south, and downtown Detroit on the east. The study area is located within the metropolitan area represented by the Southeast Michigan Council of Governments (SEMCOG), the project sponsor. FTA and SEMCOG will also seek the cooperation of the Federal Railroad Administration (FRA), the Federal Highway Administration (FHWA), and the Federal Aviation Administration (FAA) in conducting this review.

DATES: Comment Due Date: Written comments on the scope of the EIS, including the alternatives and impacts to be considered, should be sent to Carmine Palombo of SEMCOG at the SEMCOG address given in ADDRESSES below by October 30, 2004. Scoping Meetings: SEMCOG will conduct three (3) public scoping meetings and an agency scoping meeting. The public scoping meetings will be held at the following locations:

• Tuesday, October 19, 2004, 4-8 p.m.; Washtenaw Community College, Morris Lawrence Building, Room ML103/123, 4800 E. Huron River Drive, Ann Arbor;

• Wednesday, October 20, 2004, 4-8 p.m.; SEMCOG offices, SEMCOG Ambassador Room, Buhl Building, 535 Griswold Street, Suite 300, Detroit;

• Thursday, October 21, 2004, 4-8 p.m.; Henry Ford Community and Performing Arts Center, Room W (West Rooms), 15801 Michigan Avenue, Dearborn, MI

The locations of the scoping meetings will be accessible to persons with disabilities and open to all members of the community. Any individual with a disability who requires special assistance, such as a sign language interpreter, to participate in the scoping meetings should contact Alex Bourgeau, at SEMCOG (313) 961-4266 by October 18, 2004.

ADDRESSES: Written comments on the scope of the EIS should be sent to Carmine Palombo at SEMCOG, 535 Griswold, Suite 300, Detroit, MI 48226 within 30 days of this notice. To be added to the mailing list or to receive a copy of the Scoping Information Booklet, please contact Alex Bourgeau, at SEMCOG, 535 Griswold Street, Suite 300, Detroit, MI 48226. Phone (313) 961-4266. Scoping information is also available on the project website at http://www.annarbortodetroitrapidtransitstudy.com). The dates and addresses of the scoping meetings are given in the DATES section above.

FOR FURTHER INFORMATION CONTACT: Mr. David Werner, Federal Transit Administration, Region V, 200 West Adams Street, Suite 320, Chicago, IL 60606. Phone (312) 353-2789, or Mr. Carmine Palombo, Director of Transportation, Southeast Michigan Council of Governments (SEMCOG), 535 Griswold, Suite 300, Detroit, MI 48226. Phone (313) 961-4266.

SUPPLEMENTARY INFORMATION:

I. Scoping

The Federal Transit Administration (FTA), in cooperation with the Southeast Michigan Council of Governments (SEMCOG), will prepare an Environmental Impact Statement (EIS) to examine alternative improvement strategies to enhance transit access and mobility in the study area, respond to projected growth and increased traffic congestion, and address regional air quality issues. A Project Steering Committee, representing local jurisdictions, the State of Michigan, and key community leaders will provide guidance to SEMCOG on local decisions. Input received during the scoping meetings will be summarized and provided to the Steering Committee and to FTA to inform decisions on the alternatives to be evaluated and the impacts to be assessed.

Scoping activities will include public meetings and an agency scoping meeting during the month of October 2004, and correspondence and discussions with interested persons, organizations, and federal, state and local agencies. FTA and SEMCOG invite all interested individuals and organizations, and federal, state, regional and local agencies and host railroads to provide comments on the scope of the study. During the scoping process, comments should focus on identifying specific social, economic, or environmental issues to be evaluated and on suggesting alternatives that may be less costly or have less environmental impact, while achieving similar transportation objectives. A Scoping Information Booklet will be circulated to all federal, state, and local agencies having jurisdiction in the project areas and all interested parties currently on the Southeast Michigan Rapid Transit Study mailing list. The Scoping Information Booklet will be available at the meetings or in advance of the meetings by contacting Carmine Palombo at SEMCOG, as indicated in ADDRESSES above.

During scoping, comments should focus on the alternatives and impacts to be studied and not on stating a preference for a particular alternative. Individual preferences for alternatives should be communicated during the comment period for the Draft EIS. Scoping comments may be made at the public scoping meetings listed in the DATES section of this notice, or in writing as described in the ADDRESSES section above.

II. Description of Study Area and Project Needs

The study area extends approximately 55-miles from west of Ann Arbor east to Detroit. The area encompasses many established communities, and includes factories, offices, institutional facilities, research parks, and visitor and recreational venues. Some of Michigan's largest employers, universities and colleges, and cultural attractions are located within the study corridor.

Several trends contribute to the need for improved transit and transportation options in the Southeast Michigan corridor, including: continued population growth; economic development and employment growth; increasing travel demand and limited capacity improvements on existing highways; limited inter-city passenger service and transportation options; need for improved access to major universities; mandated improvements in air quality; and consistency with transit-supportive land use plans and policies. A projected consequence of this rapid growth in travel is markedly higher traffic volumes on highways and streets throughout the corridor. Roadways in the corridor are projected to operate with moderate to severe congestion (level of service C, D, and F) in 2026.

The purpose of the project is to identify a transportation solution that provides additional choices for travelers within and through the corridor. The proposed transit improvements seek to expand travel options between Ann Arbor, Ypsilanti, Westland/Merriman Road, Dearborn, New Center, Detroit's central business district (CBD) and Detroit Metro Airport; to improve mobility for individuals who cannot or choose not to drive personal vehicles; to improve and expand connectivity to major activity areas including universities, commercial areas, urban and suburban employment centers and residential areas; to provide opportunities for additional economic growth and “smart” growth resulting from corridor mobility improvements; to assist in reducing present and projected traffic congestion throughout the study corridor; to reduce the need for highway expansion in the short-term; and to improve air quality.

III. Alternatives

A brief description of the initial alternatives proposed for study is provided below:

No Build Alternative. The future No-Build Alternative consists of the highway and transit system existing as of 2004, plus transportation projects included in the long range Metropolitan Transportation Plan adopted by SEMCOG, excluding the proposed project but with a continuation of existing transit service policies in its place.

Transportation Systems Management (TSM) Alternative. This Alternative consists of reasonable cost-effective (low-cost, operationally oriented) transit improvements, that go beyond the existing service policies and plan by attempting to providing the best possible transit service in the corridor without a major investment. This consists of major enhancements of the scheduled intercity bus service between Ann Arbor and Detroit, with intermediate stops in Ypsilanti, Merriman Road/Westland, Dearborn and New Center.

Transit Build Alternatives. One or more Transit Build Alternatives providing service between Ann Arbor and Detroit will be evaluated. The Transit Build Alternatives may include bus rapid transit, light rail transit, or commuter rail. Ancillary facilities, such as a maintenance facilities, layover and maintenance yards, and parking facilities will be considered, as appropriate, for the Transit Build Alternatives.

These alternatives are expected to be defined more precisely through the scoping process. Any additional reasonable alternatives emerging from the scoping process will also be considered.

IV. Probable Impacts for Analysis

The purpose of the EIS process is to fully disclose the environmental consequences associated with each of the alternatives being evaluated and to develop alternatives to avoid, minimize and mitigate those impacts while still satisfying the need for the action. The FTA and SEMCOG will assess all social, economic, and environmental impacts of all reasonable alternatives. Impacts may include the following: land use, zoning, and economic development; secondary development; cumulative impacts; land acquisition, displacements, and relocation of existing uses; historic, archaeological, and cultural resources; parklands and recreational areas; visual and aesthetic qualities; neighborhoods and communities; environmental justice; air quality; noise and vibration; hazardous materials; ecosystems; water resources; energy; construction impacts; safety and security; utilities; and transportation impacts. The impacts will be evaluated both for the construction period and for the long-term period of operation of each alternative. Measures to avoid, minimize or mitigate adverse impacts will be identified.

V. FTA Procedures

In accordance with FTA's environmental regulation (23 CFR part 771), FTA and SEMCOG will comply with NEPA and all related environmental laws, regulations, and executive orders, including but not limited to Section 106 of the National Historic Preservation Act, Section 4(f) of the DOT Act, the project-level conformity requirements of the Clean Air Act, and the executive orders on wetlands protection, floodplain management, and environmental justice, during the NEPA process, to the maximum extent possible.

The Draft EIS will also constitute the Alternatives Analysis required by FTA's New Starts regulation (49 CFR Part 611) and will satisfy the FTA requirements for an Alternatives Analysis. Upon completion, the Alternatives Analysis/Draft EIS will be available for public and agency review and comment. Public hearing(s) on the Alternatives Analysis/Draft EIS will be held within the study area. On the basis of the Alternatives Analysis/Draft EIS and the public and agency comments received, a Locally Preferred Alternative (LPA) will be selected and, with FTA approval, will be advanced into preliminary engineering and a more detailed evaluation in the Final EIS.

Issued on: September 28, 2004.
Joel P. Ettinger,
Region V Administrator.

[FR Doc. 04-22144 Filed 9-30-04; 8:45 am]

BILLING CODE 4910-57-P